DEPARTMENT OF AGRICULTURE

Rural Utilities Service

Information Collection Activity; Comment Request; Correction

AGENCY: Rural Utilities Service, USDA.

ACTION: Notice and request for comments; correction.

SUMMARY: The Rural Utilities Service (RUS) published a document in the Federal Register on April 16, 2014, at 79 FR 21436. The document reported an inaccurate number for the Agency's estimate of respondent burden hours for OMB Control Number 0572-0076 in connection with the Paperwork Reduction Act of 1995 (44 U.S.C. Chapter 35, as amended). The Rural Utilities Service (RUS) invites comments on this information collection for which RUS intends to request approval from the Office of Management and Budget (OMB).

DATES: Comments on this notice must be received by July 28, 2014.

FOR FURTHER INFORMATION CONTACT: Michele L. Brooks, Director, Program Development and Regulatory Analysis, Rural Utilities Service, 1400 Independence Ave. SW., STOP 1522, Room 5162, South Building, Washington, DC 20250-1522. Telephone: (202) 690-1078, FAX: (202) 720-8435 or email Michele.brooks@wdc.usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for approval.

Comments are invited on: (a) Wwhether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Michele L. Brooks, Director, Program Development and Regulatory Analysis, Rural Utilities Service, U.S. Department of Agriculture, STOP 1522, 1400 Independence Ave. SW., Washington, DC 20250-1522. Telephone (202) 690-1078, FAX: (202)720-8435 or email Michele.brooks@wdc.usda.gov.

Title: RUS Specification for Quality Control and Inspection of Timber Products.

OMB Control Number: 0572-0076.

Type of Request: Revision of a currently approved collection.

Abstract: RUS Bulletin 1728H-702 and 7 CFR 1728.202 describe the responsibilities and procedures pertaining to the quality control by producers and pertaining to inspection of timber products produced in accordance with RUS specifications. In order to ensure the security of loan funds, adequate quality control of timber products is vital to loan security on electric power systems where hundreds of thousands of wood poles and cross-arms are used. Since RUS and its borrowers do not have the expertise or manpower to quickly determine imperfections in the wood products or their preservatives treatments, they must obtain service of an inspection agency to insure that the specifications for wood poles and cross-arms are being met. Copies of test reports on various preservatives must accompany each load of poles treated at the same time in a pressure cylinder (charge) as required by 7 CFR 1728.202(i). RUS feels the importance of safety concerns are enough to justify requiring test reports so that the purchaser, inspectors, and RUS will be able to spot check the general accuracy and reliability of the tests. The Agency has evaluated the current caseload and activity in the area of transmission and distribution and determined that a significant reduction in burden hours is necessary due to the number of alternative materials in use today. RUS also consulted agencies responsible for the majority of RUS borrowers' pole inspection and determined that the inspection time for one million poles, instead of a previously estimated two million, is a more realistic estimate to use in calculating burden hours.

Estimate of Burden: This collection of information is estimated to average 1 hour per response.

Respondents: Not-for-profit institutions; Business or other for profit.

Estimated Number of Respondents: 25.

Estimated Number of Responses per Respondent: 800.

Estimated Total Annual Burden on Respondents: 20,000 hours.

Copies of this information collection can be obtained from Rebecca Hunt, Program Development and Regulatory Analysis, at (202) 205-3660, FAX: (202)720-8435 or email: Rebecca.hunt@wdc.usda.gov.

All responses to this notice will be summarized and included in the request for OMB approval. All comments will also become a matter of public record.

Dated: May 16, 2014.
John Charles Padalino,
Administrator, Rural Utilities Service.

[FR Doc. 2014-12040 Filed 5-23-14; 8:45 am]

BILLING CODE 3410-15-P